FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201294.

Agreement Name: CMA CGM/Crowley Miami-Jamaica Space Charter Agreement.

Parties: CMA CGM S.A. and Crowley Caribbean Services, LLC.

Filing Party: Wayne Rohde; Cozen O'Connor.

Synopsis: The Agreement authorizes CMA CGM to charter space to Crowley in the trade between Miami, FL and Jamaica. The Parties request expedited review.

Proposed Effective Date: 5/20/2019.

Location: https://www2.fmc.gov/FMC.Agreements.Web/Public/AgreementHistory/21363.

Dated: April 9, 2019.
Rachel Dickon,
Secretary.

[FR Doc. 2019-07319 Filed 4-11-19; 8:45 am]

BILLING CODE 6731-AA-P